DEPARTMENT OF HEALTH AND HUMAN SERVICES

Centers for Disease Control and Prevention (CDC)

[CDC-2014-0013, Docket Number NIOSH-274]

NIOSH Current Intelligence Bulletin: Promoting Health and Preventing Disease and Injury through Workplace Tobacco Policies

AGENCY: National Institute for Occupational Safety and Health (NIOSH) of the Centers for Disease Control and Prevention (CDC), Department of Health and Human Services (HHS).

ACTION: Notice of draft document for public comment.

SUMMARY: The National Institute for Occupational Safety and Health of the Centers for Disease Control and Prevention announces the availability of a draft Current Intelligence Bulletin (CIB) entitled NIOSH Current Intelligence Bulletin: Promoting Health and Preventing Disease and Injury through Workplace Tobacco Policies for public comment. To view the notice and related materials, visit http://www.regulations.gov and enter CDC-2014-0013 in the search field and click “Search.”

Public comment period: Comments must be received September 15, 2014.

ADDRESSES: You may submit comments, identified by CDC-2014-0013 and Docket Number NIOSH-274, by either of the following two methods:

• Federal eRulemaking Portal: https://www.regulations.gov Follow the instructions for submitting comments.

• Mail: National Institute for Occupational Safety and Health, NIOSH Docket Office, 1090 Tusculum Avenue, MS C-34, Cincinnati, Ohio 45226-1998.

Instructions: All information received in response to this notice must include the agency name and docket number [CDC-2014-0013; NIOSH-274]. All relevant comments received will be posted without change http://www.regulations.gov, including any personal information provided. All electronic comments should be formatted as Microsoft Word. All information received in response to this notice will also be available for public examination and copying at the NIOSH Docket Office, 1150 Tusculum Avenue, Room 109, Cincinnati, OH 45226-1998.

SUPPLEMENTARY INFORMATION: The purpose of the public review of the draft document is to help assure that the final version of the NIOSH Current Intelligence Bulletin meets current quality standards before it is disseminated.

Overall Questions

(1) Does the draft CIB provide useful information and recommendations?

(2) Is it reasonably clear and comprehensible?

(3) Does it include any technical errors or factual inaccuracies?

(4) Are there any critical omissions?

(5) Does it include any unnecessary information that should be deleted?

(6) Are any of the conclusions inappropriate?

(7) Are any of the recommendations inappropriate?

Background: NIOSH has previously published two formal Current Intelligence Bulletins entirely devoted to the issue of tobacco use. The first—CIB 31: Adverse Health Effects of Smoking and the Occupational Environment [DHEW (NIOSH) Publication Number 79-122]—outlined several ways in which smoking interacts with other workplace exposures to increase risk of disease and injury among workers. That document recommended that smoking be curtailed in workplaces where those other hazards are present and that worker exposure to those other occupational hazards be controlled http://www.cdc.gov/niosh/docs/1970/79122_31.html. The second—CIB 54: Environmental Tobacco Smoke in the Workplace; Lung Cancer and other Health Effects [DHHS (NIOSH) Publication No. 91-108]—focused on secondhand smoke in the workplace as a cause of cancer and cardiovascular disease. That document recommended eliminating tobacco smoking in the workplace as the best preventive approach http://www.cdc.gov/niosh/docs/91-108/.

NIOSH has prepared a current draft CIB: Promoting Health and Preventing Disease and Injury through Workplace Tobacco Policies for anticipated dissemination during the 50th anniversary year of the Surgeon General's first report on the health consequences of smoking published in 1964. The draft CIB reflects a “strategy integrating occupational safety and health protection with health promotion to prevent worker injury and illness and to advance health and well-being” [see http://www.cdc.gov/niosh/TWH/totalhealth.html], embodied by NIOSH in a recently launched Total Worker Health™ (TWH™) Program.

FOR FURTHER INFORMATION CONTACT: R.M. Castellan, NIOSH, Division of Respiratory Disease Studies, Mailstop H-2900, 1095 Willowdale Road, Morgantown, West Virginia 26505-2888. Phone: (304) 285-6117.

Dated: August 7, 2014.
John Howard,
Director, National Institute for Occupational Safety and Health, Centers for Disease Control and Prevention.

[FR Doc. 2014-19384 Filed 8-14-14; 8:45 am]

BILLING CODE 4163-19-P